DEPARTMENT OF THE INTERIOR

Minerals Management Service (MMS)

Availability of Geographic Information and Related Spatial Data

AGENCY: Minerals Management Service, Interior.

ACTION: Availability of geographic information and related spatial data.

SUMMARY: Notice is hereby given that effective with this publication, MMS will assume its responsibilities for National Spatial Data Infrastructure (NSDI) Data Themes as defined in the Office of Management and Budget's Circular No. A-16, “Coordination of Geographic Information and Related Spatial Data Activities,” as revised on August 19, 2002.

FOR FURTHER INFORMATION CONTACT: To acquire spatial data from MMS for the following Data Themes, Offshore Minerals, please contact Renee Orr, Chief, Leasing Division Minerals Management Service, Mail Stop 4010, 381 Elden Street, Herndon, Virginia 20170, Telephone (703) 787-1165, Cadastral (Offshore) and Outer Continental Shelf Submerged Lands, please contact Leland F. Thormahlen, Chief, Mapping and Boundary Branch, Minerals Management Service, PO Box 25165, Mail Stop 4011, Denver Federal Center, Lakewood, Colorado 80225, Telephone (303) 275-7120 or visit our web site at www.mms.gov/ld/leasing.htm.

SUPPLEMENTARY INFORMATION: Under the Revised OMB Circular A-16 the following Data Themes as defined are the sole responsibility of the MMS:

Cadastral (Offshore): DOI, MMS

Definition: Offshore cadastre is the land management system used on the Outer Continental Shelf. The cadastre extends from the baseline to the extent of United States jurisdiction. Existing coverage is currently limited to the conterminous United States and portions of Alaska. The maximum extent of United States jurisdiction has not been mathematically determined and will be available as soon as the information is provided by the Department of Commerce.

Offshore Minerals: DOI, MMS

Definition: Offshore minerals include minerals occurring in submerged lands. Examples of marine minerals include oil, gas, sulfur, gold, sand and gravel, and manganese.

Outer Continental Shelf Submerged Lands: DOI, MMS

Definition: This data includes lands covered by water at any stage of the tide, as distinguished from tidelands, which are attached to the mainland or an island and cover and uncover with the tide. Tidelands presuppose a high-water line as the upper boundary; whereas submerged lands do not.

Dated: November 18, 2002.
Johnnie Burton,
Director, Minerals Management Service.

[FR Doc. 02-30442 Filed 11-29-02; 8:45 am]

BILLING CODE 4310-MR-M